ENVIRONMENTAL PROTECTION AGENCY

40 CFR Part 52

[AL-2017; FRL-9975-72—Region 4]

Air Plan Approval; Alabama; Update to Materials Incorporated by Reference

AGENCY: Environmental Protection Agency (EPA).

ACTION: Final rule; notification of administrative change.

SUMMARY: The Environmental Protection Agency (EPA) is updating the materials that are incorporated by reference (IBR) into the Alabama state implementation plan (SIP). The regulations affected by this update have been previously submitted by Alabama and approved by EPA. This update affects the materials that are available for public inspection at the National Archives and Records Administration (NARA) and the EPA Regional Office.

DATES: This action is effective March 30, 2018.

ADDRESSES: SIP materials which are incorporated by reference into 40 CFR part 52 are available for inspection at the following locations: Environmental Protection Agency, Region 4, 61 Forsyth Street SW, Atlanta, GA 30303; and the National Archives and Records Administration. For information on the availability of this material at NARA, call 202-741-6030, or go to: http://www.archives.gov/federal-register/cfr/ibr-locations.html. To view the materials at the Region 4 Office, EPA request that you email the contact listed in the FOR FURTHER INFORMATION CONTACT section.

FOR FURTHER INFORMATION CONTACT: Sean Lakeman, Air Regulatory Management Section, Air Planning and Implementation Branch, Air, Pesticides and Toxics Management Division, U.S. Environmental Protection Agency, Region 4, 61 Forsyth Street SW, Atlanta, Georgia 30303-8960. Mr. Lakeman can be reached via telephone at (404) 562-9043 or via electronic mail at lakeman.sean@epa.gov.

SUPPLEMENTARY INFORMATION:

I. Background

Each state has a SIP containing the control measures and strategies used to attain and maintain the national ambient air quality standards (NAAQS). The SIP is extensive, containing such elements as air pollution control regulations, emission inventories, monitoring networks, attainment demonstrations, and enforcement mechanisms.

Each state must formally adopt the control measures and strategies in the SIP after the public has had an opportunity to comment on them and then submit the proposed SIP revisions to EPA. Once these control measures and strategies are approved by EPA, after notice and comment, they are incorporated into the federally-approved SIP and are identified in part 52 “Approval and Promulgation of Implementation Plans,” Title 40 of the Code of Federal Regulations (40 CFR part 52). The full text of the state regulation approved by EPA is not reproduced in its entirety in 40 CFR part 52, but is “incorporated by reference.” This means that EPA has approved a given state regulation with a specific effective date. The public is referred to the location of the full text version should they want to know which measures are contained in a given SIP. The information provided allows EPA and the public to monitor the extent to which a state implements a SIP to attain and maintain the NAAQS and to take enforcement action if necessary.

The SIP is a living document which the state can revise as necessary to address the unique air pollution problems in the state. Therefore, EPA from time to time must take action on proposed revisions containing new and/or revised state regulations. A submission from a state can revise one or more rules in their entirety or portions of rules, or even change a single word. The state indicates the changes in the submission (such as, by using redline/strikethrough) and EPA then takes action on the requested changes. EPA establishes a docket for its actions using a unique Docket Identification Number. which is listed in each action. These dockets and the complete submission are available for viewing on www.regulations.gov.

On May 22, 1997, (62 FR 27968), EPA revised the procedures for incorporating by reference, into the Code of Federal Regulations, materials approved by EPA into each state SIP. These changes revised the format for the identification of the SIP in 40 CFR part 52, streamlined the mechanisms for announcing EPA approval of revisions to a SIP, and streamlined the mechanisms for EPA's updating of the IBR information contained for each SIP in 40 CFR part 52. The revised procedures also called for EPA to maintain “SIP Compilations” that contain the federally-approved regulations and source specific permits submitted by each state agency. These SIP Compilations are contained in 3-ring binders and are updated primarily on an annual basis. Under the revised procedures, EPA must periodically publish an informational document in the rules section of the Federal Register notifying the public that updates have been made to a SIP Compilation for a particular state. EPA applied the 1997 revised procedures to Alabama on December 22, 1998 (63 FR 70669).

II. EPA Action

This action represents EPA's publication of the Alabama SIP Compilation update, appearing in 40 CFR part 52: specifically, the materials of paragraphs (c) and (d) at 40 CFR 52. In addition, notice is provided of the following corrections to paragraph (c) of section 52.50, as described below:

A. Under the “State effective date” and “EPA approval date” changing the 2-digit year to reflect a 4-digit year (for consistency) and correcting numerous Federal Register citations to reflect the first page of the preamble as opposed to the regulatory text page.

B. Section 335-3-1-.05: revising entry to read “Sampling and Testing Methods.”

C. Section 335-3-3-.01: State effective date is revised to read “1/22/2008” and EPA approval date is revised to read “9/15/2008; 73 FR 53134.”

D. Section 335-3-4-.01: State effective date is revised to read “9/30/2008” and EPA approval date is revised to read “10/15/2008; 73 FR 60957.”

E. Section 335-3-4-.16: entry is removed from the table because the rule was reserved.

F. Section 335-3-5-.10: revising entry to read “TR SO2 Trading Program—computation of Time.

G. Section 335-3-5-.20: entry is removed from the table because the rule was reserved.

H. Section 335-3-5-.30: entry is removed from the table because the rule was reserved.

I. Section 335-3-6-.02: State effective date is revised to read “4/15/1987” and EPA approval date is revised to read “9/27/1993; 58 FR 50262.”

J. Section 335-3-6-.03: State effective date is revised to read “4/15/1987” and EPA approval date is revised to read “9/27/1993; 58 FR 50262.”

K. Section 335-3-6-.19: entry is removed from the table because the rule was reserved.

L. Section 335-3-6-.26: State effective date is revised to read “4/15/1987” and EPA approval date is revised to read “9/27/1993; 58 FR 50262.”

M. Section 335-3-6-.31: State effective date is revised to read “4/15/1987” and EPA approval date is revised to read “9/27/1993; 58 FR 50262.”

N. Section 335-3-6-.33: State effective date is revised to read “10/15/1996” and EPA approval date is revised to read “6/6/1997; 62 FR 30991.”

O. Section 335-3-6-.35: State effective date is revised to read “4/15/1987” and EPA approval date is revised to read “9/27/1993; 58 FR 50262.”

P. Section 335-3-6-.40: entry is removed from the table because the rule was reserved.

Q. Section 335-3-6-.43: State effective date is revised to read “10/15/1996” and EPA approval date is revised to read “6/6/1997; 62 FR 30991.”

R. Section 335-3-6-.49: State effective date is revised to read “10/15/1996” and EPA approval date is revised to read “6/6/1997; 62 FR 30991.”

S. Section 335-3-6-.53: State effective date is revised to read “10/15/1996” and EPA approval date is revised to read “6/6/1997; 62 FR 30991.”

T. Section 335-3-8-.04: Title/subject is changed to remove the word “(Reserved)”.

U. Section 335-3-8-.15: entry is removed from the table because the rule was reserved.

V. Section 335-3-8-.19: removing the explanation because EPA inadvertently inserted this explanation in its August 31, 2016 (81 FR 59869) approval of this section. There is only one section of 335-3-8-.19 in the approved SIP.

W. Section 335-3-8-.22: entry is removed from the table because the rule was reserved.

X. Section 335-3-8-.47: entry is removed from the table because the rule was reserved.

Y. Section 335-3-8-.54: entry is removed from the table because the rule was reserved.

Z. Section 335-3-8-.64: entry is removed from the table because the rule was reserved.

AA. Section 335-3-14-.04: revising entry to read “Air Permits Authorizing Construction in Clean Air Areas (Prevention of Significant Deterioration (PSD))

BB. Chapter 335-3-20 heading and Sections 335-3-20-.01 through 335-3-20-.03: entries are removed from the table because the rule was reserved.

III. Good Cause Exemption

EPA has determined that this action falls under the “good cause” exemption in section 553(b)(3)(B) of the Administrative Procedure Act (APA) which, upon finding “good cause,” authorizes agencies to dispense with public participation and section 553(d)(3) which allows an agency to make an action effective immediately (thereby avoiding the 30-day delayed effective date otherwise provided for in the APA). This administrative action simply codifies provisions which are already in effect as a matter of law in Federal and approved state programs and corrects typographical errors appearing in the CFR. Under section 553(b)(3)(B) of the APA, an agency may find good cause where procedures are “impracticable, unnecessary, or contrary to the public interest.” Public comment for this administrative action is “unnecessary” and “contrary to the public interest” since the codification (and typographical corrections) only reflect existing law. Immediate notice of this action in the Federal Register benefits the public by providing the public notice of the updated Alabama SIP Compilation and notice of typographical corrections to the Alabama “Identification of Plan” portion of the Federal Register. Further, pursuant to section 553(d)(3), making this action immediately effective benefits the public by immediately updating both the SIP compilation and the CFR “Identification of plan” section (which includes table entry corrections).

IV. Incorporation by Reference

In this rule, EPA is finalizing regulatory text that includes incorporation by reference. In accordance with requirements of 1 CFR 51.5, EPA is finalizing the incorporation by reference of previously EPA-approved regulations promulgated by Alabama and federally effective prior to October 1, 2017. EPA has made, and will continue to make, these materials generally available through www.regulations.gov and at the EPA Region 4 Office (please contact the person identified in the FOR FURTHER INFORMATION CONTACT section of this preamble for more information).

V. Statutory and Executive Order Reviews:

Under the CAA, the Administrator is required to approve a SIP submission that complies with the provisions of the Act and applicable federal regulations. See 42 U.S.C. 7410(k); 40 CFR 52.02(a). Thus, in reviewing SIP submissions, EPA's role is to approve state choices, provided that they meet the criteria of the CAA. Accordingly, this notification of administrative change does not impose additional requirements beyond those imposed by state law. For that reason, this action:

• Is not a “significant regulatory action” subject to review by the Office of Management and Budget under Executive Orders 12866 (58 FR 51735, October 4, 1993) and 13563 (76 FR 3821, January 21, 2011);

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because application of those requirements would be inconsistent with the CAA; and

• does not provide EPA with the discretionary authority to address, as appropriate, disproportionate human health or environmental effects, using practicable and legally permissible methods, under Executive Order 12898 (59 FR 7629, February 16, 1994).

The SIP is not approved to apply on any Indian reservation land or in any other area where EPA or an Indian tribe has demonstrated that a tribe has jurisdiction. In those areas of Indian country, the rule does not have tribal implications as specified by Executive Order 13175 (65 FR 67249, November 9, 2000), nor will it impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

EPA also believes that the provisions of section 307(b)(1) of the CAA pertaining to petitions for judicial review are not applicable to this action. This is because prior EPA rulemaking actions for each individual component of the Alabama SIP compilations previously afforded interested parties the opportunity to file a petition for judicial review in the United States Court of Appeals for the appropriate circuit within 60 days of such rulemaking action. Thus, EPA believes judicial review of this action under section 307(b)(1) of the CAA is not available.

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: January 29, 2018.
Onis “Trey” Glenn, III,
Regional Administrator, Region 4.

40 CFR part 52 is amended as follows:

PART 52—APPROVAL AND PROMULGATION OF IMPLEMENTATION PLANS

1. The authority citation for part 52 continues to read as follows:

Authority: 42 U.S.C. 7401 et seq.

Subpart B—Alabama

2. In § 52.50, paragraphs (b), (c) and (d) are revised to read as follows:

§ 52.50 Identification of plan.

* * * * *

(b) Incorporation by reference. (1) Material listed in paragraphs (c) and (d) of this section with an EPA approval date prior to October 1, 2017, was approved for incorporation by reference by the Director of the Federal Register in accordance with 5 U.S.C. 552(a) and 1 CFR part 51. Material is incorporated as it exists on the date of the approval, and notice of any change in the material will be published in the Federal Register. Entries in paragraphs (c) and (d) of this section with EPA approval dates after October 1, 2017, will be incorporated by reference in the next update to the SIP compilation.

(2) EPA Region 4 certifies that the rules/regulations provided by EPA in the SIP compilation at the addresses in paragraph (b)(3) of this section are an exact duplicate of the officially promulgated State rules/regulations which have been approved as part of the State Implementation Plan as of the dates referenced in paragraph (b)(1).

(3) Copies of the materials incorporated by reference may be inspected at the Region 4 EPA Office at 61 Forsyth Street SW, Atlanta, GA 30303. To obtain the material, please call (404) 562-9022. You may inspect the material with an EPA approval date prior to October 1, 2017, for Alabama at the National Archives and Records Administration. For information on the availability of this material at NARA go to: http://www.archives.gov/federal-register/cfr/ibr-locations.html.

(c) EPA Approved Alabama Regulations.

EPA-Approved Alabama Regulations
State citation | Title/subject | State effective date | EPA approval date | Explanation
Chapter No. 335-3-1 General Provision
Section 335-3-1-.01 | Purpose | 6/22/1989 | 3/19/1990; 55 FR 10062
Section 335-3-1-.02 | Definitions | 5/19/2017 | 10/13/2017, 82 FR 47631
Section 335-3-1-.03 | Ambient Air Quality Standards | 10/13/1998 | 3/01/1999; 64 FR 9918
Section 335-3-1-.04 | Monitoring, Records, and Reporting | 10/15/1996 | 6/06/1997; 62 FR 30991
Section 335-3-1-.05 | Sampling and Testing Methods | 6/22/1989 | 3/19/1990; 55 FR 10062
Section 335-3-1-.06 | Compliance Schedule | 10/15/1996 | 6/06/1997; 62 FR 30991
Section 335-3-1-.07 | Maintenance and Malfunctioning of Equipment; Reporting | 10/15/1989 | 3/19/1990; 55 FR 10062
Section 335-3-1-.08 | Prohibition of Air Pollution | 8/10/2000 | 12/8/2000; 65 FR 76938
Section 335-3-1-.09 | Variances | 10/15/1996 | 6/6/1997; 62 FR 30991
Section 335-3-1-.10 | Circumvention | 6/22/1989 | 3/19/1990; 55 FR 10062
Section 335-3-1-.11 | Severability | 10/15/1996 | 6/6/1997; 62 FR 30991
Section 335-3-1-.12 | Bubble Provision | 6/22/1989 | 3/19/1990; 55 FR 10062
Section 335-3-1-.13 | Credible Evidence | 4/13/1999 | 11/3/1999; 64 FR 59633
Section 335-3-1-.14 | Emissions Reporting Requirements Relating to Budgets for NOX Emissions | 4/6/2001 | 7/16/2001; 66 FR 36921
Section 335-3-1-.15 | Emissions Inventory Reporting Requirements | 4/3/2003 | 4/24/2003; 68 FR 20077
Chapter No. 335-3-2 Air Pollution Emergency
Section 335-3-2-.01 | Air Pollution Emergency | 6/22/1989 | 3/19/1990; 55 FR 10062
Section 335-3-2-.02 | Episode Criteria | 8/10/2000 | 12/8/2000; 65 FR 76940
Section 335-3-2-.03 | Special Episode Criteria | 6/22/1989 | 3/19/1990; 55 FR 10062
Section 335-3-2-.04 | Emission Reduction Plans | 6/22/1989 | 3/19/1990; 55 FR 10062
Section 335-3-2-.05 | Two Contaminant Episode | 6/22/1989 | 3/19/1990; 55 FR 10062
Section 335-3-2-.06 | General Episodes | 6/22/1989 | 3/19/1990; 55 FR 10062
Section 335-3-2-.07 | Local Episodes | 6/22/1989 | 3/19/1990; 55 FR 10062
Section 335-3-2-.08 | Other Sources | 10/15/1996 | 6/6/1997; 62 FR 30991
Section 335-3-2-.09 | Other Authority Not Affected | 6/22/1989 | 3/19/1990; 55 FR 10062
Chapter No. 335-3-3 Control of Open Burning and Incineration
Section 335-3-3-.01 | Open Burning | 1/22/2008 | 9/15/2008; 73 FR 53134
Section 335-3-3-.02 | Incinerators | 6/22/1989 | 3/19/1990; 55 FR 10062
Section 335-3-3-.03 | Incineration of Wood, Peanut, and Cotton Ginning Waste | 8/10/2000 | 12/8/2000; 65 FR 76938
Chapter No. 335-3-4 Control of Particulate Emissions
Section 335-3-4-.01 | Visible Emissions | 9/30/2008 | 10/15/2008; 73 FR 60957
Section 335-3-4-.02 | Fugitive Dust and Fugitive Emissions | 10/15/1996 | 6/6/1997; 62 FR 30991
Section 335-3-4-.03 | Fuel Burning Equipment | 10/15/1996 | 6/6/1997; 62 FR 30991
Section 335-3-4-.04 | Process Industries—General | 10/15/1996 | 6/6/1997; 62 FR 30991
Section 335-3-4-.05 | Small Foundry Cupola | 6/22/1989 | 3/19/1990; 55 FR 10062
Section 335-3-4-.06 | Cotton Gins | 6/22/1989 | 3/19/1990; 55 FR 10062
Section 335-3-4-.07 | Kraft Pulp Mills | 10/15/1996 | 6/6/1997; 62 FR 30991
Section 335-3-4-.08 | Wood Waste Boilers | 6/9/2017 | 10/13/2017; 82 FR 47631
Section 335-3-4-.09 | Coke Ovens | 8/10/2000 | 12/8/2000; 65 FR 76940
Section 335-3-4-.10 | Primary Aluminum Plants | 6/22/1989 | 3/19/1990; 55 FR 10062
Section 335-3-4-.11 | Cement Plants | 10/15/1996 | 6/6/1997; 62 FR 30991
Section 335-3-4-.12 | Xylene Oxidation Process | 6/22/1989 | 3/19/1990; 55 FR 10062
Section 335-3-4-.13 | Sintering Plants | 6/22/1989 | 3/19/1990; 55 FR 10062
Section 335-3-4-.14 | Grain Elevators | 10/15/1996 | 6/6/1997; 62 FR 30991
Section 335-3-4-.15 | Secondary Lead Smelters | 10/15/1996 | 6/6/1997; 62 FR 30991
Section 335-3-4-.17 | Steel Mills Located in Etowah County | 10/15/1996 | 6/6/1997; 62 FR 30991
Chapter No. 335-3-5 Control of Sulfur Compound Emissions
Section 335-3-5-.01 | Fuel Combustions | 10/15/1996 | 6/6/1997; 62 FR 30991
Section 335-3-5-.02 | Sulfuric Acid Plants | 10/15/1996 | 6/6/1997; 62 FR 30991
Section 335-3-5-.03 | Petroleum Production | 8/10/2000 | 12/8/2000; 65 FR 76938
Section 335-3-5-.04 | Kraft Pulp Mills | 8/10/2000 | 12/8/2000; 65 FR 76938
Section 335-3-5-.05 | Process Industries—General | 6/22/1989 | 3/19/1990; 55 FR 10062
Section 335-3-5-.06 | State Clean Air Interstate Rule (CAIR) SO2 Trading Program General Provisions | 4/3/2007 | 10/1/2007; 72 FR 55659
Section 335-3-5-.06 | TR SO2 Trading Program—Purpose and Definitions | 11/24/2015 | 8/31/2016, 81 FR 59869 | Both sections of 335-3-5-.06 are included in the approved SIP.
Section 335-3-5-.07 | CAIR Designated Representative for CAIR SO2 Sources | 4/3/2007 | 10/1/2007; 72 FR 55659
Section 335-3-5-.07 | TR SO2 Trading Program—Applicability | 11/24/2015 | 8/31/2016, 81 FR 59869 | Both sections of 335-3-5-.07 are included in the approved SIP.
Section 335-3-5-.08 | Permits | 4/3/2007 | 10/1/2007; 72 FR 55659
Section 335-3-5-.08 | TR SO2 Trading Program—Retired Unit Exemption | 11/24/2015 | 8/31/2016, 81 FR 59869 | Both sections of 335-3-5-.08 are included in the approved SIP.
Section 335-3-5-.09 | TR SO2 Trading Program—Standard Requirements | 11/24/2015 | 8/31/2016, 81 FR 59869
Section 335-3-5-.10 | TR SO2 Trading Program—computation of Time | 11/24/2015 | 8/31/2016, 81 FR 59869
Section 335-3-5-.11 | CAIR SO2 Allowance Tracking System | 4/3/2007 | 10/1/2007; 72 FR 55659
Section 335-3-5-.11 | Administrative Appeal Procedures | 11/24/2015 | 8/31/2016, 81 FR 59869 | Both sections of 335-3-5-.11 are included in the approved SIP.
Section 335-3-5-.12 | CAIR SO2 Allowance Transfers | 4/3/2007 | 10/1/2007; 72 FR 55659
Section 335-3-5-.12 | SO2 Trading Budgets and Variability Limits | 11/24/2015 | 8/31/2016, 81 FR 59869 | Both sections of 335-3-5-.12 are included in the approved SIP.
Section 335-3-5-.13 | Monitoring and Reporting | 4/3/2007 | 10/1/2007; 72 FR 55659
Section 335-3-5-.13 | TR SO2 Allowance Allocations | 11/24/2015 | 8/31/2016, 81 FR 59869 | Both sections of 335-3-5-.13 are included in the approved SIP.
Section 335-3-5-.14 | CAIR SO2 Opt-in Units | 4/3/2007 | 10/1/2007; 72 FR 55659
Section 335-3-5-.14 | Authorization of Designated Representative and Alternate Designated Representative | 11/24/2015 | 8/31/2016, 81 FR 59869 | Both sections of 335-3-5-.14 are included in the approved SIP.
Section 335-3-5-.15 | Responsibilities of Designated Representative and Alternate Designated Representative | 11/24/2015 | 8/31/2016, 81 FR 59869
Section 335-3-5-.16 | Changing Designated Representative and Alternate Designated Representative; Changes in Owners and Operators; Changes in Units at the Source | 11/24/2015 | 8/31/2016, 81 FR 59869
Section 335-3-5-.17 | Certificate of Representation | 11/24/2015 | 8/31/2016, 81 FR 59869
Section 335-3-5-.18 | Objections Concerning Designated Representative and Alternate Designated Representative | 11/24/2015 | 8/31/2016, 81 FR 59869
Section 335-3-5-.19 | Delegation by Designated Representative and Alternate Designated Representative | 11/24/2015 | 8/31/2016, 81 FR 59869
Section 335-3-5-.21 | Establishment of Compliance Accounts, Assurance Accounts, and General Accounts | 11/24/2015 | 8/31/2016, 81 FR 59869
Section 335-3-5-.22 | Recordation of TR SO2 Allowance Allocations and Auction Results | 11/24/2015 | 8/31/2016, 81 FR 59869
Section 335-3-5-.23 | Submission of TR SO2 Allowance Transfers | 11/24/2015 | 8/31/2016, 81 FR 59869
Section 335-3-5-.24 | Recordation of TR SO2 Allowance Transfers | 11/24/2015 | 8/31/2016, 81 FR 59869
Section 335-3-5-.25 | Compliance with TR SO2 Emissions Limitation | 11/24/2015 | 8/31/2016, 81 FR 59869
Section 335-3-5-.26 | Compliance with TR SO2 Assurance Provisions | 11/24/2015 | 8/31/2016, 81 FR 59869
Section 335-3-5-.27 | Banking | 11/24/2015 | 8/31/2016, 81 FR 59869
Section 335-3-5-.28 | Account Error | 11/24/2015 | 8/31/2016, 81 FR 59869
Section 335-3-5-.29 | Administrator's Action on Submissions | 11/24/2015 | 8/31/2016, 81 FR 59869
Section 335-3-5-.31 | General Monitoring, Recordkeeping, and Reporting Requirements | 11/24/2015 | 8/31/2016, 81 FR 59869
Section 335-3-5-.32 | Initial Monitoring System Certification and Recertification Procedures | 11/24/2015 | 8/31/2016, 81 FR 59869
Section 335-3-5-.33 | Monitoring System Out-of-Control Periods | 11/24/2015 | 8/31/2016, 81 FR 59869
Section 335-3-5-.34 | Notifications Concerning Monitoring | 11/24/2015 | 8/31/2016, 81 FR 59869
Section 335-3-5-.35 | Recordkeeping and Reporting | 11/24/2015 | 8/31/2016, 81 FR 59869
Section 335-3-5-.36 | Petitions for Alternatives to Monitoring, Recordkeeping, or Reporting Requirements | 11/24/2015 | 8/31/2016, 81 FR 59869
Chapter No. 335-3-6 Control of Organic Emissions
Section 335-3-6-.01 | Applicability | 10/15/1996 | 6/6/1997; 62 FR 30991
Section 335-3-6-.02 | VOC Water Separation | 4/15/1987 | 9/27/1993; 58 FR 50262
Section 335-3-6-.03 | Loading and Storage of VOC | 4/15/1987 | 9/27/1993; 58 FR 50262
Section 335-3-6-.04 | Fixed-Roof Petroleum Liquid Storage Vessels | 10/15/1996 | 6/6/1997; 62 FR 30991
Section 335-3-6-.05 | Bulk Gasoline Plants | 10/15/1996 | 6/6/1997; 62 FR 30991
Section 335-3-6-.06 | Bulk Gasoline Terminals | 8/10/2000 | 12/8/2000; 65 FR 76938
Section 335-3-6-.07 | Gasoline Dispensing Facilities—Stage I | 10/15/1996 | 6/6/1997; 62 FR 30991
Section 335-3-6-.08 | Petroleum Refinery Sources | 6/22/1989 | 3/19/1990; 55 FR 10062
Section 335-3-6-.09 | Pumps and Compressors | 6/22/1989 | 3/19/1990; 55 FR 10062
Section 335-3-6-.10 | Ethylene Producing Plants | 6/22/1989 | 3/19/1990; 55 FR 10062
Section 335-3-6-.11 | Surface Coating | 10/15/1996 | 6/6/1997; 62 FR 30991
Section 335-3-6-.12 | Solvent Metal Cleaning | 10/15/1996 | 06/6/1997; 62 FR 30991
Section 335-3-6-.13 | Cutback Asphalt | 10/15/1996 | 6/6/1997; 62 FR 30991
Section 335-3-6-.14 | Petition for Alternative Controls | 6/22/1989 | 3/19/1990; 55 FR 10062
Section 335-3-6-.15 | Compliance Schedules | 10/15/1996 | 6/6/1997; 62 FR 30991
Section 335-3-6-.16 | Test Methods and Procedures | 8/10/2000 | 12/8/2000; 65 FR 76938
Section 335-3-6-.17 | Manufacture of Pneumatic Tires | 10/15/1996 | 6/6/1997; 62 FR 30991
Section 335-3-6-.18 | Manufacture of Synthesized Pharmaceutical Products | 10/15/1996 | 6/6/1997; 62 FR 30991
Section 335-3-6-.20 | Leaks from Gasoline Tank Trucks and Vapor Collection Systems | 10/15/1996 | 6/6/1997; 62 FR 30991
Section 335-3-6-.21 | Leaks from Petroleum Refinery Equipment | 10/15/1996 | 6/6/1997; 62 FR 30991
Section 335-3-6-.22 | Graphic Arts | 10/15/1996 | 6/6/1997; 62 FR 30991
Section 335-3-6-.23 | Petroleum Liquid Storage in External Floating Roof Tanks | 10/15/1996 | 6/6/1997; 62 FR 30991
Section 335-3-6-.24 | Applicability | 10/15/1996 | 6/6/1997; 62 FR 30991
Section 335-3-6-.25 | VOC Water Separation | 6/22/1989 | 3/19/1990; 55 FR 10062
Section 335-3-6-.26 | Loading and Storage of VOC | 4/15/1987 | 9/27/1993; 58 FR 50262
Section 335-3-6-.27 | Fixed-Roof Petroleum Liquid Storage Vessels | 10/15/1996 | 6/6/1997; 62 FR 30991
Section 335-3-6-.28 | Bulk Gasoline Plants | 10/15/1996 | 6/6/1997; 62 FR 30991
Section 335-3-6-.29 | Gasoline Terminals | 10/15/1996 | 6/6/1997; 62 FR 30991
Section 335-3-6-.30 | Gasoline Dispensing Facilities Stage 1 | 10/15/1996 | 6/6/1997; 62 FR 30991
Section 335-3-6-.31 | Petroleum Refinery Sources | 4/15/1987 | 9/27/1993; 58 FR 50262
Section 335-3-6-.32 | Surface Coating | 10/15/1996 | 6/6/1997; 62 FR 30991
Section 335-3-6-.33 | Solvent Metal Cleaning | 10/15/1996 | 6/6/1997; 62 FR 30991
Section 335-3-6-.34 | Cutback Asphalt | 10/15/1996 | 6/6/1997; 62 FR 30991
Section 335-3-6-.35 | Petition for Alternative Controls | 4/15/1987 | 9/27/1993; 58 FR 50262
Section 335-3-6-.36 | Compliances Schedules | 10/15/1996 | 6/6/1997; 62 FR 30991
Section 335-3-6-.37 | Test Methods and Procedures | 10/15/1996 | 6/6/1997; 62 FR 30991
Section 335-3-6-.38 | Manufacture of Pneumatic Tires | 6/22/1989 | 3/19/1990; 55 FR 10062
Section 335-3-6-.39 | Manufacture of Synthesized Pharmaceutical Products | 10/15/1996 | 6/6/1997; 62 FR 30991
Section 335-3-6-.41 | Leaks from Gasoline Tank Trucks and Vapor Collection Systems | 10/15/1996 | 6/6/1997; 62 FR 30991
Section 335-3-6-.42 | Leaks from Petroleum Refinery Equipment | 10/15/1996 | 6/6/1997; 62 FR 30991
Section 335-3-6-.43 | Graphic Arts | 10/15/1996 | 6/6/1997; 62 FR 30991
Section 335-3-6-.44 | Petroleum Liquid Storage in External Floating Roof Tanks | 10/15/1996 | 6/6/1997; 62 FR 30991
Section 335-3-6-.45 | Large Petroleum Dry Cleaners | 10/15/1996 | 6/6/1997; 62 FR 30991
Section 335-3-6-.46 | Aerospace Assembly and Component and Component Coatings Operation | 6/22/1989 | 6/6/1997; 62 FR 30991
Section 335-3-6-.47 | Leaks from Coke by-Product Recovery Plant Equipment | 10/15/1996 | 6/6/1997; 62 FR 30991
Section 335-3-6-.48 | Emissions from Coke by-Product Recovery Plant Coke Oven Gas Bleeder | 10/15/1996 | 6/6/1997; 62 FR 30991
Section 335-3-6-.49 | Manufacture of Laminated Countertops | 10/15/1996 | 6/6/1997; 62 FR 30991
Section 335-3-6-.50 | Paint Manufacture | 10/15/1996 | 6/6/1997; 62 FR 30991
Section 335-3-6-.53 | List of EPA Approved and Equivalent Test Methods and Procedures for the Purpose of Determining VOC Emissions | 10/15/1996 | 6/6/1997; 62 FR 30991
Chapter No. 335-3-7 Carbon Monoxide Emissions
Section 335-3-7-.01 | Metals Productions | 6/22/1989 | 3/19/1990; 55 FR 10062
Section 335-3-7-.02 | Petroleum Processes | 6/22/1989 | 3/19/1990; 55 FR 10062
Chapter No. 335-3-8 Control of Nitrogen Oxides Emissions
Section 335-3-8-.01 | Standards for Portland Cement Kilns | 4/6/2001 | 7/17/2001; 66 FR 36919
Section 335-3-8-.02 | Nitric Acid Manufacturing | 10/15/1996 | 6/6/1997; 62 FR 30991
Section 335-3-8-.03 | NOX Emissions from Electric Utility Generating Units | 10/24/2000 | 11/7/2001; 66 FR 56223
Section 335-3-8-.04 | Standards for Stationary Reciprocating Internal Combustion Engines | 3/22/2005 | 12/28/2005; 70 FR 76694
Section 335-3-8-.05 | NOX Budget Trading Program | 4/3/2007 | 10/1/2007; 72 FR 55659
Section 335-3-8-.06 | Authorized Account Representative for NOX Budget Sources | 4/6/2001 | 7/16/2001; 66 FR 36919
Section 335-3-8-.07 | Permits | 4/6/2001 | 7/16/2001; 66 FR 36919
Section 335-3-8-.07 | TR NOX Annual Trading Program—Purpose and Definitions | 11/24/2015 | 8/31/2016, 81 FR 59869 | Both sections of 335-3-8-.07 are included in the approved SIP.
Section 335-3-8-.08 | Compliance Certification | 4/6/2001 | 7/16/2001; 66 FR 36919
Section 335-3-8-.08 | TR NOX Annual Trading Program—Applicability | 11/24/2015 | 8/31/2016, 81 FR 59869 | Both sections of 335-3-8-.08 are included in the approved SIP.
Section 335-3-8-.09 | NOX Allowance Allocations | 4/6/2001 | 7/16/2001; 66 FR 36919
Section 335-3-8-.09 | TR NOX Annual Trading Program—Retired Unit Exemption | 11/24/2015 | 8/31/2016, 81 FR 59869 | Both sections of 335-3-8-.09 are included in the approved SIP.
Section 335-3-8-.10 | NOX Allowance Tracking System | 4/3/2007 | 10/1/2007; 72 FR 55659
Section 335-3-8-.10 | TR NOX Annual Trading Program—Standard Requirements | 11/24/2015 | 8/31/2016, 81 FR 59869 | Both sections of 335-3-8-.10 are included in the approved SIP.
Section 335-3-8-.11 | NOX Allowance Transfers | 4/6/2001 | 7/16/2001; 66 FR 36919
Section 335-3-8-.11 | TR NOX Annual Trading Program—Computation of Time | 11/24/2015 | 8/31/2016, 81 FR 59869 | Both sections of 335-3-8-.11 are included in the approved SIP.
Section 335-3-8-.12 | Monitoring and Reporting | 4/6/2001 | 7/16/2001; 66 FR 36919
Section 335-3-8-.12 | Administrative Appeal Procedures | 11/24/2015 | 8/31/2016, 81 FR 59869 | Both sections of 335-3-8-.12 are included in the approved SIP.
Section 335-3-8-.13 | Individual Unit Opt-ins | 4/6/2001 | 7/16/2001; 66 FR 36919
Section 335-3-8-.13 | NOX Annual Trading Budgets and Variability Limits | 11/24/2015 | 8/31/2016, 81 FR 59869 | Both sections of 335-3-8-.13 are included in the approved SIP.
Section 335-3-8-.14 | New Combustion Sources | 4/6/2001 | 7/16/2001; 66 FR 36919
Section 335-3-8-.14 | TR NOX Annual Allowance Allocations | 11/24/2015 | 8/31/2016, 81 FR 59869 | Both sections of 335-3-8-.14 are included in the approved SIP.
Section 335-3-8-.16 | CAIR NOX Annual Budget Trading Program | 4/3/2007 | 10/1/2007; 72 FR 55659
Section 335-3-8-.16 | Authorization of Designated Representative and Alternate Designated Representative | 11/24/2015 | 8/31/2016, 81 FR 59869 | Both sections of 335-3-8-.16 are included in the approved SIP.
Section 335-3-8-.17 | CAIR Designated Representative for CAIR NOX Sources | 4/3/2007 | 10/1/2007; 72 FR 55659
Section 335-3-8-.17 | Responsibilities of Designated Representative and Alternate Designated Representative | 11/24/2015 | 8/31/2016, 81 FR 59869 | Both sections of 335-3-8-.17 are included in the approved SIP.
Section 335-3-8-.18 | CAIR Permits | 4/3/2007 | 10/1/2007; 72 FR 55659
Section 335-3-8-.18 | Changing Designated Representative and Alternate Designated Representative; Changes in Owners and Operators; Changes in Units at the Source | 11/24/2015 | 8/31/2016, 81 FR 59869 | Both sections of 335-3-8-.18 are included in the approved SIP.
Section 335-3-8-.19 | Certificate of Representation | 11/24/2015 | 8/31/2016, 81 FR 59869
Section 335-3-8-.20 | CAIR NOX Allowance Allocations | 4/3/2007 | 10/1/2007; 72 FR 55659
Section 335-3-8-.20 | Objections Concerning Designated Representative and Alternate Designated Representative | 11/24/2015 | 8/31/2016, 81 FR 59869 | Both sections of 335-3-8-.20 are included in the approved SIP.
Section 335-3-8-.21 | CAIR NOX Allowance Tracking System | 4/3/2007 | 10/1/2007; 72 FR 55659
Section 335-3-8-.21 | Delegation by Designated Representative and Alternate Designated Representative | 11/24/2015 | 8/31/2016, 81 FR 59869 | Both sections of 335-3-8-.21 are included in the approved SIP.
Section 335-3-8-.23 | CAIR Monitoring and Reporting | 4/3/2007 | 10/1/2007; 72 FR 55659
Section 335-3-8-.23 | Establishment of Compliance Accounts, Assurance Accounts, and General Accounts | 11/24/2015 | 8/31/2016, 81 FR 59869 | Both sections of 335-3-8-.23 are included in the approved SIP.
Section 335-3-8-.24 | CAIR NOX Opt-in Units | 4/3/2007 | 10/1/2007; 72 FR 55659
Section 335-3-8-.24 | Recordation of TR NOX Annual Allowance Allocations and Auction Results | 11/24/2015 | 8/31/2016, 81 FR 59869 | Both sections of 335-3-8-.24 are included in the approved SIP.
Section 335-3-8-.25 | CAIR NOX Ozone Season Trading Program | 4/3/2007 | 10/1/2007; 72 FR 55659
Section 335-3-8-.25 | Submission of TR NOX Annual Allowance Transfers | 11/24/2015 | 8/31/2016, 81 FR 59869 | Both sections of 335-3-8-.25 are included in the approved SIP.
Section 335-3-8-.26 | CAIR Designated Representative for CAIR NOX Ozone Season Sources | 4/3/2007 | 10/1/2007; 72 FR 55659
Section 335-3-8-.26 | Recordation of TR NOX Annual Allowance Transfers | 11/24/2015 | 8/31/2016, 81 FR 59869 | Both sections of 335-3-8-.26 are included in the approved SIP.
Section 335-3-8-.27 | CAIR NOX Ozone Season Permits | 4/3/2007 | 10/1/2007; 72 FR 55659
Section 335-3-8-.27 | Compliance with TR NOX Annual Emissions Limitation | 11/24/2015 | 8/31/2016, 81 FR 59869 | Both sections of 335-3-8-.27 are included in the approved SIP.
Section 335-3-8-.28 | Compliance with TR NOX Annual Assurance Provisions | 11/24/2015 | 8/31/2016, 81 FR 59869
Section 335-3-8-.29 | CAIR NOX Ozone Season Allowance Allocations | 4/3/2007 | 10/1/2007; 72 FR 55659
Section 335-3-8-.29 | Banking | 11/24/2015 | 8/31/2016, 81 FR 59869 | Both sections of 335-3-8-.29 are included in the approved SIP.
Section 335-3-8-.30 | CAIR NOX Ozone Season Allowance Tracking System | 4/3/2007 | 10/1/2007; 72 FR 55659
Section 335-3-8-.30 | Account Error | 11/24/2015 | 8/31/2016, 81 FR 59869 | Both sections of 335-3-8-.30 are included in the approved SIP.
Section 335-3-8-.31 | Administrator's Action on Submissions | 11/24/2015 | 8/31/2016, 81 FR 59869
Section 335-3-8-.32 | CAIR NOX Ozone Season Monitoring and Reporting | 4/3/2007 | 10/1/2007; 72 FR 55659
Section 335-3-8-.33 | CAIR NOX Ozone Season Opt-in Units | 4/3/2007 | 10/1/2007; 72 FR 55659
Section 335-3-8-.33 | General Monitoring, Recordkeeping, and Reporting Requirements | 11/24/2015 | 8/31/2016, 81 FR 59869 | Both sections of 335-3-8-.33 are included in the approved SIP.
Section 335-3-8-.34 | Initial Monitoring System Certification and Recertification Procedures | 11/24/2015 | 8/31/2016, 81 FR 59869
Section 335-3-8-.35 | Monitoring System Out-of-Control Periods | 11/24/2015 | 8/31/2016, 81 FR 59869
Section 335-3-8-.36 | Notifications Concerning Monitoring | 11/24/2015 | 8/31/2016, 81 FR 59869
Section 335-3-8-.37 | Recordkeeping and Reporting | 11/24/2015 | 8/31/2016, 81 FR 59869
Section 335-3-8-.38 | Petitions for Alternatives to Monitoring, Recordkeeping, or Reporting Requirements | 11/24/2015 | 8/31/2016, 81 FR 59869
Section 335-3-8-.39 | TR NOX Ozone Season Group 2 Trading Program—Purpose and Definitions | 6/9/2017 | 10/6/2017, 82 FR 46674
Section 335-3-8-.40 | TR NOX Ozone Season Group 2 Trading Program—Applicability | 11/24/2015 | 10/6/2017, 82 FR 46674
Section 335-3-8-.41 | TR NOX Ozone Season Group 2 Trading Program—Retired Unit Exemption | 6/9/2017 | 10/6/2017, 82 FR 46674
Section 335-3-8-.42 | TR NOX Ozone Season Group 2 Trading Program—Standard Requirements | 6/9/2017 | 10/6/2017, 82 FR 46674
Section 335-3-8-.43 | TR NOX Ozone Season Group 2 Trading Program—Computation of Time | 6/9/2017 | 10/6/2017, 82 FR 46674
Section 335-3-8-.44 | Administrative Appeal Procedures | 11/24/2015 | 10/6/2017, 82 FR 46674
Section 335-3-8-.45 | NOX Ozone Season Group 2 Trading Budgets and Variability Limits | 6/9/2017 | 10/6/2017, 82 FR 46674
Section 335-3-8-.46 | TR NOX Ozone Season Group 2 Allowance Allocations | 6/9/2017 | 10/6/2017, 82 FR 46674
Section 335-3-8-.48 | Authorization of Designated Representative and Alternate Designated Representative | 6/9/2017 | 10/6/2017, 82 FR 46674
Section 335-3-8-.49 | Responsibilities of Designated Representative and Alternate Designated Representative | 6/9/2017 | 10/6/2017, 82 FR 46674
Section 335-3-8-.50 | Changing Designated Representative and Alternate Designated Representative; Changes in Owners and Operators; Changes in Units at the Source | 6/9/2017 | 10/6/2017, 82 FR 46674
Section 335-3-8-.51 | Certificate of Representation | 6/9/2017 | 10/6/2017, 82 FR 46674
Section 335-3-8-.52 | Objections Concerning Designated Representative and Alternate Designated Representative | 6/9/2017 | 10/6/2017, 82 FR 46674
Section 335-3-8-.53 | Delegation by Designated Representative and Alternate Designated Representative | 6/9/2017 | 10/6/2017, 82 FR 46674
Section 335-3-8-.55 | Establishment of Compliance Accounts, Assurance Accounts, and General Accounts | 6/9/2017 | 10/6/2017, 82 FR 46674
Section 335-3-8-.56 | Recordation of TR NOX Ozone Season Group 2 Allowance Allocations and Auction Results | 6/9/2017 | 10/6/2017, 82 FR 46674
Section 335-3-8-.57 | Submission of TR NOX Ozone Season Group 2 Allowance Transfers | 6/9/2017 | 10/6/2017, 82 FR 46674
Section 335-3-8-.58 | Recordation of TR NOX Ozone Season Group 2 Allowance Transfers | 6/9/2017 | 10/6/2017, 82 FR 46674
Section 335-3-8-.59 | Compliance with TR NOX Ozone Season Group 2 Emissions Limitation | 6/9/2017 | 10/6/2017, 82 FR 46674
Section 335-3-8-.60 | Compliance with TR NOX Ozone Season Group 2 Assurance Provisions | 6/9/2017 | 10/6/2017, 82 FR 46674
Section 335-3-8-.61 | Banking | 6/9/2017 | 10/6/2017, 82 FR 46674
Section 335-3-8-.62 | TR NOX Ozone Season Group 2 Trading Program—Account Error | 6/9/2017 | 10/6/2017, 82 FR 46674
Section 335-3-8-.63 | TR NOX Ozone Season Group 2 Trading Program—Administrator's Action on Submissions | 6/9/2017 | 10/6/2017, 82 FR 46674
Section 335-3-8-.65 | General Monitoring, Recordkeeping, and Reporting Requirements | 6/9/2017 | 10/6/2017, 82 FR 46674
Section 335-3-8-.66 | Initial Monitoring System Certification and Recertification Procedures | 6/9/2017 | 10/6/2017, 82 FR 46674
Section 335-3-8-.67 | Monitoring System Out-of-Control Periods | 6/9/2017 | 10/6/2017, 82 FR 46674
Section 335-3-8-.68 | Notifications Concerning Monitoring | 6/9/2017 | 10/6/2017, 82 FR 46674
Section 335-3-8-.69 | Recordkeeping and Reporting | 6/9/2017 | 10/6/2017, 82 FR 46674
Section 335-3-8-.70 | Petitions for Alternatives to Monitoring, Recordkeeping, or Reporting Requirements | 6/9/2017 | 10/6/2017, 82 FR 46674
Chapter No. 335-3-9 Control of Emissions from Motor Vehicles
Section 335-3-9-.01 | Visible Emission Restriction for Motor Vehicles | 10/15/1996 | 6/6/1997; 62 FR 30991
Section 335-3-9-.02 | Ignition System and Engine Speed | 8/10/2000 | 12/8/2000; 65 FR 76938
Section 335-3-9-.03 | Crankcase Ventilation Systems | 8/10/2000 | 12/8/2000; 65 FR 76938
Section 335-3-9-.04 | Exhaust Emission Control Systems | 6/22/1989 | 3/19/1990; 55 FR 10062
Section 335-3-9-.05 | Evaporative Loss Control Systems | 6/22/1989 | 3/19/1990; 55 FR 10062
Section 335-3-9-.06 | Other Prohibited Acts | 8/10/2000 | 12/8/2000; 65 FR 76938
Section 335-3-9-.07 | Effective Date | 10/15/1996 | 6/6/1997; 62 FR 30991
Chapter No. 335-3-12 Continuous Monitoring Requirements for Existing Sources
Section 335-3-12-.01 | General | 6/22/1989 | 3/19/1990; 55 FR 10062
Section 335-3-12-.02 | Emission Monitoring and Reporting Requirements | 2/17/1998 | 9/14/1998; 63 FR 49005
Section 335-3-12-.03 | Monitoring System Malfunction | 6/22/1989 | 3/19/1990; 55 FR 10062
Section 335-3-12-.04 | Alternate Monitoring and Reporting Requirements | 6/22/1989 | 3/19/1990; 55 FR 10062
Section 335-3-12-.05 | Exemptions and Extensions | 6/22/1989 | 3/19/1990; 55 FR 10062
Chapter No. 335-3-13 Control of Fluoride Emissions
Section 335-3-13-.01 | General | 10/15/1996 | 6/6/1997; 62 FR 30991
Section 335-3-13-.02 | Superphosphoric Acid Plants | 10/15/1996 | 06/6/1997; 62 FR 30991
Section 335-3-13-.03 | Diammonium Phosphate Plants | 10/15/1996 | 6/6/1997; 62 FR 30991
Section 335-3-13-.04 | Triple Superphosphoric Plants | 10/15/1996 | 6/6/1997; 62 FR 30991
Section 335-3-13-.05 | Granular Triple Superphosphoric Storage Facilities | 10/15/1996 | 6/6/1997; 62 FR 30991
Section 335-3-13-.06 | Wet Process Phosphoric Acid Plants | 10/15/1996 | 6/6/1997; 62 FR 30991
Chapter No. 335-3-14 Air Permits
Section 335-3-14-.01 | General Provisions | 2/17/1998 | 9/14/1998; 63 FR 49005
Section 335-3-14-.02 | Permit Procedures | 10/15/1996 | 6/6/1997; 62 FR 30991
Section 335-3-14-.03 | Standards for Granting Permits | 5/23/2011 | 9/26/2012; 77 FR 59100.
Section 335-3-14-.04 | Air Permits Authorizing Construction in Clean Air Areas (Prevention of Significant Deterioration (PSD)) | 11/25/20147 | 10/10/2017; 82 FR 469214
Section 335-3-14-.05 | Air Permits Authorizing Construction in or Near Nonattainment Areas | 5/23/2011 | 1/11/2016; 81 FR 1124 | With the exception of: The portion of 335-3-14-.05(1)(k) stating “excluding ethanol production facilities that produce ethanol by natural fermentation”; and 335-3-14-.05(2)(c)3 (addressing fugitive emission increases and decreases). Also with the exception of the state-withdrawn elements: 335-3-14-.05(1)(h) (the actual-to-potential test for projects that only involve existing emissions units); the last sentence at 335-3-14-.05(3)(g), stating “Interpollutant offsets shall be determined based upon the following ratios”; and the NNSR interpollutant ratios at 335-3-14-.05(3)(g)1-4.
Chapter No. 335-3-15 Synthetic Minor Operating Permits
Section 335-3-15-.01 | Definitions | 10/15/1996 | 6/6/1997; 62 FR 30991
Section 335-3-15-.02 | General Provisions | 8/10/2000 | 12/8/2000; 65 FR 76938
Section 335-3-15-.03 | Applicability | 11/23/1993 | 10/20/1994; 59 FR 52916
Section 335-3-15-.04 | Synthetic Minor Operating Permit Requirements | 10/15/1996 | 6/6/1997; 62 FR 30991
Section 335-3-15-.05 | Public Participation | 10/15/1996 | 6/6/1997; 62 FR 30991
Chapter No. 335-3-17 Conformity of Federal Actions to State Implementation Plans
Section 335-3-17.01 | Transportation Conformity | 5/28/2013 | 10/12/2017; 82 FR 47383
Section 335-3-17-.02 | General Conformity | 5/23/2011 | 9/26/2012; 77 FR 59100

(d) EPA approved Alabama source specific requirements.

EPA Approved Alabama Source-Specific Requirements
Name of source | Permit No. | State effective date | EPA approval date | Explanation
Lafarge Cement Kiln | AB70004_1_01 | 2/6/2008 | 7/30/2009; 74 FR 37945 | Certain provisions of the permit.
Lehigh Cement Kiln | 4-07-0290-03 | 2/6/2008 | 7/30/2009, 74 FR 37945 | Certain provisions of the permit.

* * * * *

[FR Doc. 2018-06367 Filed 3-29-18; 8:45 am]

BILLING CODE 6560-50-P